DEPARTMENT OF HEALTH AND HUMAN SERVICES

National Institutes of Health

Office of the Director, National Institutes of Health; Notice of Meeting

Pursuant to section 1009 of the Federal Advisory Committee Act, as amended, notice is hereby given of a meeting of the Advisory Committee on Research on Women's Health.

The meeting will be open to the public as a virtual meeting. Individuals who plan to view the virtual meeting and need special assistance or other reasonable accommodations to view the meeting, should notify the Contact Person listed below in advance of the meeting. The meeting will be videocast and can be accessed from the NIH Videocasting and Podcasting website (http://videocast.nih.gov/).

Name of Committee: Advisory Committee on Research on Women's Health.

Date: October 8, 2024.

Time: 9:00 a.m. to 4:30 p.m.

Agenda: ORWH Director's Report, Presentation from NIBIB and SEED Office Directors, Panel discussion on technology, engineering and, innovation in women's health, presentation from the U.S. National Science Foundation's Directorate for Engineering Director, presentations of concepts for Advisory Committee clearance including Funding Opportunities to Support Research on Chronic Female-Specific and Gynecologic Conditions and Careers of Women.

Place: National Institutes of Health, 9000 Rockville Pike, Building 31, Bethesda, MD 20892 (In-Person and Virtual Meeting).

Contact Person: Vivian Ota Wang, Ph.D., FACMG, CGC, Deputy Director, Office on Research for Women's Health, Division of Program Coordination, Planning and Strategic Initiatives, National Institutes of Health, 6707 Democracy Blvd., Bethesda, MD 20892, 240-550-9892, otawangv@nih.gov.

Any member of the public interested in presenting oral comments to the committee may notify the Contact Person listed on this notice at least 10 days in advance of the meetings. Interested individuals and representatives of organizations may submit a letter of intent, a brief description of the organization represented, and a short description of the oral presentation. Only one representative of an organization may be allowed to present oral comments and if accepted by the committee, presentations may be limited to five minutes. Both printed and electronic copies are requested for the record. In addition, any interested person may file written comments with the committee by forwarding their statement to the Contact Person listed on this notice. The statement should include the name, address, telephone number and when applicable, the business or professional affiliation of the interested person.

Information is also available on the Institute's/Center's home page: https://orwh.od.nih.gov/, where an agenda and any additional information for the meeting will be posted when available.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: August 13, 2024.
Miguelina Perez,
Program Analyst, Office of Federal Advisory Committee Policy.

[FR Doc. 2024-18481 Filed 8-16-24; 8:45 am]

BILLING CODE 4140-01-P